DEPARTMENT OF TRANSPORTATION

Federal Aviation Administration

25th Meeting: RTCA Special Committee 206: Aeronautical Information and Meteorological Data Link

AGENCY: Federal Aviation Administration (FAA), DOT.

ACTION: Notice of RTCA Special Committee 206: Aeronautical Information and Meteorological Data Link Services meeting.

SUMMARY: The FAA is issuing this notice to advise the public of a meeting of RTCA Special Committee 206: Aeronautical Information and Meteorological Data Link Services

DATES: The meeting will be held June 27-July 1, 2011 from 9 a.m. to 5 p.m.

ADDRESSES: The meeting will be held at Vail Marriott, 715 West Lionshead Circle, Vail, CO 81657. Point of Contact is Jeff Rex at (303) 501-4359.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 206: EUROCAE WG 76 Plenary: AIS and MET Data Link Services meeting.

The agenda will include:

27 June—Monday

• 9 a.m.

• Opening Plenary

• Chairmen's remarks and Host's comments

• Introductions

• Approval of previous meeting minutes

• Review and approve meeting agenda

• Schedule for this week

• Action Item Review

• Working Group 1, Work Plan—WG1 Chairmen

• Working Group 2 Work Plan—WG2 Chairmen

• Working Group 3 Work Plan—WG3 Chairmen

• 11 a.m.

• WG1, WG2, and WG3 Meetings

28 June—Tuesday

• 9 a.m.

• Joint Plenary meeting with AEEC Systems Architecture & Interface SC

• 10 a.m.

• WG1, WG2, and WG3 Meetings

29 June—Wednesday

• 9 a.m.

• WG1, WG2, and WG3 Meetings

30 June—Thursday

• 9 a.m.

• WG1, WG2, and WG3 Meetings

• 3 p.m.

• Plenary Session

• Working Group Reports

• Action Item Review

• Meeting Plans and Dates

• Other Business

1 July—Friday

• 9 a.m.

• WG1, WG2, and WG3 Meetings

• 12 p.m.

• Adjourn

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 3, 2011.
Robert L. Bostiga,
RTCA Advisory Committee.

[FR Doc. 2011-14370 Filed 6-9-11; 8:45 am]

BILLING CODE 4910-13-P